DEPARTMENT OF THE INTERIOR

Bureau of Land Management

[ES-966-1910-BK, Group 25, Maine]

Notice of Filing of Plat of Survey; Maine

The plat of the dependent resurvey and survey of the boundaries of the Passamaquoddy Tribal Reservation lands held in trust by the United States, in Indian Township, Washington County, Maine, will be officially filed in Eastern States, Springfield, Virginia at 7:30 a.m., 30 calendar days from the date of publication in the Federal Register.

The survey was requested by the Bureau of Indian Affairs.

All inquiries or protests concerning the technical aspects of the survey must be sent to the Chief Cadastral Surveyor, Eastern States, Bureau of Land Management, 7450 Boston Boulevard, Springfield, Virginia 22153.

Copies of the plat will be made available upon request and prepayment of the reproduction fee of $2.75 per copy.

Dated: February 16, 2007.
Jerry L. Wahl,
(Acting) Chief Cadastral Surveyor.

[FR Doc. E7-3362 Filed 2-26-07; 8:45 am]

BILLING CODE 4310-GJ-P